DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with May anniversary dates. In accordance with the Department's regulations, we are initiating those administrative reviews.

DATES: Effective Date: June 28, 2013.

FOR FURTHER INFORMATION CONTACT: Brenda E. Waters, Office of AD/CVD Operations, Customs Unit, Import Administration, International Trade Administration, U.S. Department of Commerce, 14th Street and Constitution Avenue NW., Washington, DC 20230, telephone: (202) 482-4735.

SUPPLEMENTARY INFORMATION:

Background

The Department has received timely requests, in accordance with 19 CFR 351.213(b), for administrative reviews of various antidumping and countervailing duty orders and findings with May anniversary dates.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be filed electronically at http://iaaccess.trade.gov in accordance with 19 CFR 351.303. See Antidumping and Countervailing Duty Proceedings: Electronic Filing Procedures; Administrative Protective Order Procedures, 76 FR 39263 (July 6, 2011). Such submissions are subject to verification in accordance with section 782(i) of the Tariff Act of 1930, as amended (“Act”). Further, in accordance with 19 CFR 351.303(f)(1)(i), a copy must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Deadline for Withdrawal of Request for Administrative Review

Pursuant to 19 CFR 351.213(d)(1), a party that has requested a review may withdraw that request within 90 days of the date of publication of the notice of initiation of the requested review. The regulation provides that the Department may extend this time if it is reasonable to do so. In order to provide parties additional certainty with respect to when the Department will exercise its discretion to extend this 90-day deadline, interested parties are advised that the Department does not intend to extend the 90-day deadline unless the requestor demonstrates that an extraordinary circumstance has prevented it from submitting a timely withdrawal request. Determinations by the Department to extend the 90-day deadline will be made on a case-by-case basis.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate rates criteria, the Department assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently completed segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2014.

| Period to be reviewed
Antidumping Duty Proceedings
Belgium:
Stainless Steel Plate in Coils, A-423-808 | 5/1/12-4/30/13
Aperam Stainless Belgium N.V. (“ASB”)
Canada:
Citric Acid and Citrate Salt A-122-853 | 5/1/12-4/30/13
Jungbunzlauer Canada Inc.
Republic of Korea:
Polyester Staple Fiber A-580-839 | 5/1/12-4/30/13
Huvis Corporation
Woongjin Chemical Company, Ltd.
Taiwan:
Certain Circular Welded Carbon Steel Pipes and Tubes A-583-008 | 5/1/12-4/30/13
Chung Hung Steel Corp.
Far East Machinery Co., Ltd.
Kao Hsing Chang Iron & Steel Corp.
Shin Yang Steel Co., Ltd.
Tension Steel Industries Co., Ltd.
Yieh Phui Enterprise Co., Ltd.
Certain Stilbenic Optical Brightening Agents A-583-848 | 11/3/11-4/30/13
Teh Fong Min International Co., Ltd.
Polyester Staple Fiber A-583-833 | 5/1/12-4/30/13
Far Eastern New Century Corporation
Nan Ya Plastics Corporation
The People's Republic of China
Aluminum Extrusions ³ A-570-967 | 5/1/12-4/30/13
Acro Import and Export Co.
Activa International Inc.
Allied Maker Limited
Alnan Aluminium Co., Ltd.
Bracalente Metal Products (Suzhou) Co. Ltd.
Changshu Changshen Aluminum Products Co., Ltd.
Changzhou Changzheng Evaporator Co., Ltd.
Changzhou Tenglong Auto Parts Co., Ltd.
Chiping One Stop Industrial & Trade Co., Ltd.
Cixi Handsome Pool Appliance Co., Ltd.
Classic & Contemporary Inc.
Clear Sky Inc.
Cosco (J.M.) Aluminum Co., Ltd.
DongChuan Swimming Pool Equipments Co., Ltd.
Dongguan Aoda Aluminum Co., Ltd.
Dongguan Golden Tiger Hardware Industrial Co., Ltd.
Dragonluxe Limited
Dynabright Int'l Group (HK) Limited
Dynamic Technologies China
First Union Property Limited
Foreign Trade Co. of Suzhou New & Hi-Tech Industrial Development Zone
Foshan City Nanhai Hongjia Aluminum alloy Co.
Foshan Guancheng Aluminum Co., Ltd.
Foshan Jinlan Aluminum Co. Ltd.
Foshan JMA Aluminum Company Limited
Foshan Shanshui Fenglu Aluminum Co., Ltd.
Foshan Shunde Aoneng Electrical Appliances Co., Ltd.
Foshan Yong Li Jian Alu. Ltd.
Fujian Sanchuan Aluminum Co., Ltd.
Gangzhou Mingcan Die-Casting Hardware Products, Co. Ltd.
Global PMX Dongguan Co., Ltd.
Golden Dragon Precise Copper Tube Group, Inc.
Gree Electric Appliances
Guang Dong Xin Wei Aluminum Products Co., Ltd.
Guang Ya Aluminum Industries Co. Ltd
Guangdong Hao Mei Aluminum Co., Ltd.
Guangdong Jianmei Aluminum Profile Company Limited
Guangdong Nanhai Foodstuffs Imp. & Exp. Co., Ltd.
Guangdong Weiye Aluminum Factory Co., Ltd.
Guangdong Whirlpool Electrical Appliances Co., Ltd.
Guangdong Xingfa Aluminum Co., Ltd.
Guangdong Zhongya Aluminum Company Limited
Guangzhou Jangho Curtain Wall System Engineering Co., Ltd. and Jangho Curtain Wall Hong Kong Ltd. (collectively, Jangho)
Hangzhou Zingyi Metal Products Co., Ltd.
Hanwood Enterprises Limited
Hanyung Alcobis Co., Ltd.
Hanyung Metal (Suzhou) Co., Ltd.
Hao Mei Aluminum Co., Ltd.
Hao Mei Aluminum International Co., Ltd.
Henan New Kelong Electrical Appliances Cp., Ltd.
Hoff Associates Mfg Reps Inc. (dba Global Point Technology, Inc.) and Global Point Technology (Far East) Limited (collectively, Global Point)
Hong Kong Gree Electric Appliances Sales Limited
Honsense Development Company
Hui Mei Gao Aluminum Foshan Co., Ltd.
Idex Dinglee Technology (Tianjin Co., Ltd.)
Idex Health
Innovative Aluminum (Hong Kong) Limited
iSource Asia
Jiangmen Qunxing Hardware Diecasting Co., Ltd.
Jiangsu Changfa Refrigeration Co., Ltd.
Jiangyin Trust International Inc
Jiangyin Xinhong Doors and Windows Co., Ltd.
Jiaxing Jackson Travel Products Co., Ltd.
Jiaxing Taixin Metal Products Co., Ltd.
Jiuyan Co., Ltd.
JMA (HK) Company Limited
Justhere Co., Ltd.
Kam Kiu Aluminum Products Sdn Bhd
Kanal Precision Aluminum Product Co., Ltd.
Karlton Aluminum Company Ltd.
Kong Ah International Company Limited
Kromet International Inc.
Kunshan Giant Light Metal Technology Co., Ltd.
Liaoyang Zhongwang Aluminum Profiled Co. Ltd.
Longkou Donghai Trade Co., Ltd.
Metaltek Group Co., Ltd.
Metaltek Metal Industry Co., Ltd.
Midea Air Conditioning Equipment Co., Ltd.
Midea International Trading Co., Ltd.
Miland Luck Limited
Nanhai Textiles Import & Export Co., Ltd. of Guangdong
New Asia Aluminum & Stainless Steel Product Co., Ltd.
Nidec Sankyo Singapore Pte. Ltd.
Nidec Sankyo (Zhejiang) Corporation
Ningbo Coaster International Co., Ltd.
Ningbo Hi Tech Reliable Manufacturing Company
Ningbo Splash Pool Appliance Co., Ltd.
Ningbo Yili Import and Export Co., Ltd.
North China Aluminum Co., Ltd.
Northern States Metals
PanAsia Aluminum (China) Limited
Permasteelisa South China Factory (Permasteelisa China) and Permasteelisa Hong Kong Limited
Pingguo Aluminum Company Limited
Pingguo Asia Aluminum Co., Ltd.
Popular Plastics Company Limited
Press Metal International Ltd
Samuel, Son & Co., Ltd.
Sanchuan Aluminum Co., Ltd.
Shangdong Huasheng Pesticide Machinery Co.
Shangdong Nanshan Aluminum Co., Ltd.
Shanghai Canghai Aluminum Tube Packaging Co., Ltd
Shanghai Dongsheng Metal
Shanghai Shen Hang Imp & Exp Co., Ltd.
Shanghai Tongtai Precise Aluminum Alloy Manufacturing Co., Ltd.
Shenyang Yuanda Aluminum Industry Engineering Co., Ltd.
Shenzhen Hudson Technology Development Co., Ltd.
Shenzhen Jiuyuan Co., Ltd.
Sihui Shi Guo Yao Aluminum Co., Ltd.
Sincere Profit Limited
Skyline Exhibit Systems (Shanghai) Co., Ltd.
Suzhou JRP Import & Export Co., Ltd.
Suzhou New Hongji Precesion Part Co
Tai-Ao Aluminum (Taishan) Co. Ltd.
Taishan City Kam Kiu Aluminum Extrusion Co., Ltd.
Taizhou Lifeng Manufacturing Corporation
Taogoasei America Inc
tenKsolar (Shanghai) Co., Ltd.
Tianjin Ganglv Nonferrous Metal Materials Co., Ltd.
Tianjin Jinmao Import & Export Corp., Ltd.
Tianjin Ruxin Electric Heat Transmission Technology Co., Ltd.
Tiazhou Lifeng Manufacturing Corporation
Top-Wok Metal Co., Ltd.
Traffic Brick Network, LLC
Union Industry (Asia) Co., Ltd.
USA Worldwide Door Components (Pinghu) Co., Ltd.
Wenzhou Shengbo Decoration & Hardware
Whirlpool Canada L.P.
Whirlpool (Guangdong)
Whirlpool Microwave Products Development Ltd.
Xin Wei Aluminum Company Limited
Xinya Aluminum & Stainless Steel Product Co., Ltd.
Zhaoqing China Square Industry Limited
Zhaoqing Asia Aluminum Factory Company Ltd
Zhaoqing New Zhongya Aluminum Co., Ltd.
Zhejiang Anji Xinxiang Aluminum Co., Ltd.
Zhejiang Yongkang Listar Aluminum Industry Co., Ltd.
Zhejiang Zhengte Group Co., Ltd.
Zhenjiang Xinlong Group Co., Ltd.
Zhongshan Gold Mountain Aluminum Factory Ltd.
Zhongya Shaped Aluminum (HK) Holding Limited
Zhuhai Runxingtai Electrical Equipment Co., Ltd.
Certain Oil Country Tubular Goods ⁴ A-570-943 | 5/1/12-4/30/13
1st Huabei OCTG Machinery Co., Ltd.
Adler Steel Limited
Adler Steel Limited Tianjin China c/o Adler Steel Limited
Angang New Steel Co. Ltd.
Angang Steel Co., Ltd.
Anhui Tianda Oil Pipe Co. Ltd. and Anhui Tianda Enterprise (Group) Co. Ltd.
Anshan Xin Yin Hong Petroleum and Gas Tubular Co.
Anshan Zhongyou TIPO Pipe & Tubing Co., Ltd.
Anton Oilfield Services (Group) Ltd.
Anton Tongao Technology Industry Co. Ltd.
Anyang Iron & Steel Group Ltd.—Seamless
Aofei Tele Dongying Import & Export Co., Ltd.
Baoji Petroleum Steel Pipe and Tube Works
Baoji-Sumitomo Metal Industries (SMI) Petroleum Steel Pipe, Co. Ltd. (BSG)
Baolai Steel Pipe and Tianjin Baolai International Trade Co., Ltd.
Baoshan Iron & Steel Co. Ltd. Precision Steel Tube Factory
Baoshan Iron & Steel Co. Ltd. Shanghai Baosteel Group Corporation and Steel Tubing Plant of Baosteel Branch
Baosteel America Inc.
Baosteel Group Shanghai Steel Tube
Baosteel International (Shanghai Baosteel International Economic & Trading Co., Ltd.)
Baotou Found Petroleum Machinery Co. Ltd.
Baotou Iron & Steel (Group) Co., Ltd.
Bazhou Hongyuan Petroleum Equipment Materials Co., Ltd.
Bazhou Seamless Oil Pipe Co., Ltd.
Bazhou Zhuofa Steel Pipe Co., Ltd.
Beijing Bell Plumbing Manufacturing Ltd.
Beijing Changxing Kaida Composite Material Development Co., Ltd.
Beijing Jinghua Global Trading Co., Ltd.
Beijing Shouhang Science-Technology Development Company
Beijing Youlu Co., Ltd.
Beijing Zhongyou TIPO Material & Equipment Co., Ltd.
Beiman Special Steel Co., Ltd.
Benxi Northern Steel Pipes Co., Ltd.
Bohai Equipment New Century Machinery Manufacturing Co., Ltd.
Cangzhou City Baohai Petroleum Material Co., Ltd.
Cangzhou City Shengdali Machinery Manufacture Co., Ltd.
Cangzhou OCTG Company Limited of Huabei Oilfield
Cangzhou Qiancheng Steel Pipe Co., Ltd.
Cangzhou Ruitai Petroleum Machinery Co., Ltd.
Cangzhou Xinxing Seamless Steel Pipe Co., Ltd.
Changshu Chengfeng Machinery Manufacturing Co., Ltd.
Changshu Lijia Import and Export Co.
Changshu Seamless Steel Tube Co., Ltd.
Changzhou Bao-Steel Tube Limited-Liability Co.
Changzhou Darun Steel Tube Co., Ltd.
Changzhou Haitong Petroleum Tube Co., Ltd.
Changzhou Heji Engineering Machinery Co., Ltd.
Changzhou Heyuan Steel Pipe Company
Changzhou Hong Ping Material Supply Co., Ltd.
Changzhou Huixiang Petroleum Machinery Co., Ltd.
Changzhou Jianzhou Machinery Co., Ltd.
Changzhou Shengde Seamless Pipe Co., Ltd.
Changzhou Steel Pipe Factory
ChangZhou TaoBang Petroleum Tube Co., Ltd.
Changzhou Tianda Petroleum Pipe Co., Ltd.
Changzhou Tong Xing Steel Tube Co., Ltd.
Changzhou Tongchuang Tube Industry Co., Ltd.
Changzhou Wujin Furong Aluminum Alloy Profile Factory
Changzhou Yuanyang Steel Tube Co., Ltd.
Chengde Longcheng Steel Pipe Manufacturing Co., Ltd.
Chengdu Heyi Steel Tube Industrial Co., Ltd.
Chengdu Wanghui Petroleum Pipe Co. Ltd.
Chengdu Zhongyuan Zongji Petroluem Equipment Co., Ltd.
China East Resources Import & Export Co., Ltd.
China Hebei Xinyuantai Steel Pipe Co.
China Oilfield Services Limited
Chongqing Petroleum Special Pipeline Factory of CNPC Sichuan Petroleum Goods & Material Supply Corp.
Chu Kong Steel Pipe Group Co
Chuanna Machinery Manufacturing Plant
Cloudstone Metal International Limited
CNOOC Energy Technology & Services—Pipe Engineering Co.
CNOOC Kingland Pipeline Co., Ltd.
CNPC Chuanqing Drilling Engineering Co., Ltd./changqing Downhold Technology Operation Co.
CNPC Chuanqing Drilling Engineering Co., Ltd./Changqing General Drilling Company
CNPC GWDC Drilling Tools Company
CORPAC Steel Products, Corp.
Da An Heng Rui Production Enquipment Co., Ltd.
Da Qing Jing Tai mechancial Manufacturing Co., Ltd.
Da'an Petroleum Accessories Factory
DADI Petroleum Machinery Co., Ltd. Of Inner Mongolia First Machinery Group Co., Ltd.
Dagang Oilfield Group New Century Machinery Manufacturing Co., Ltd.
Dalipal Pipe Company
Daqing High-Tech Zone Hua Rui Ke Pipe Manufacturing Co.
DaQing Ocean Petroleum Technology Development Co., Ltd.
Daqing Petroleum Equipment Group
Daqing Powerlift Petro-Equipment Group
Daqing Seamless Oil Pipe Co., Ltd.
Daqing Wanke Oilfield Equipment Manufacturing Co., Ltd.
Daquing Powerlift Petro-Equipment Group
Daye Xinye Special Steel Company Limited
De Zhou Guang Hua Petroleum Machinery Company Limited
De Zhou United Petroleum Machinery Company Limited
De Zhou Zhong Xing Petroleum Machinery Co., Ltd.
Dexin Steel Tube (China) Co., Ltd.
Dezhou Great Wall Petroleum Machinery Co., Ltd.
Dezhou Horizon Oil Tools Co., Ltd.
Dezhou Longke Petroleum Equipment Co., Ltd.
Dingbian County Huayou Trading Company Limited
Dong Ying East Petroleum Pipe Co., Ltd.
Dongying City Jinyilai Petroleum Machinery Co., Ltd.
Dongying City Meiyang Petroleum Pipe & Fittings Co., Ltd.
Dongying City Paipu Petroleum Pipe Fitting Co., Ltd.
Dongying City YongLiJingGong Petroleum Machinery Manufacturing Co., Ltd.
Dongying Heli Petroleum Machinery Company Limited
Dongying Rui'ao Industrial Trading Co., Ltd.
Dongying Tianlin Petroleum Equipment Co., Ltd.
Dongying Tianrui Petroleum Science & Technology Co., Ltd.
DP-Master Manufacturing Co., Ltd.
DRK Oil Tools, Co., Ltd.
Engineering Service Company of Great Wall Drilling Engineering Ltd. Of China Petroleum Group
Etco (China) International Trading Co., Ltd.
Faray Petroleum Steel Pipe Co., Ltd.
Field Construction Bohai Equipment Services
First Machinery Works of North China Petroleum
Freet Petroleum Equipment Co. Ltd. of Shengli Oil Field The Thermal Recovery, Zibo Branch
Gaoyou Huaxing Petroleum Pipe Manufacturing Co., Ltd.
Ge Steel Resource Ltd.
General Machinery Factory of Jilin Petroleum Group Co., Ltd.
General Machinery Plant of Shengli Petroleum Administration (Shengli Oil Field Shengli Petroleum Equipment Co., Ltd.)
Guangzhou Hongda Steel Tube
Guangzhou Iron and Steel
Guanzhou Junjia Steel Tube Manufacturer Co., Ltd.
Guanzhou Juyi Steel Pipes Company Limited
Guanzheng Branch of Tangshan Jidong Petroleum Machinery Company, Ltd.
Haerbin City Weilian Mechanical Manufacturing Company Limited
Haicheng Northern Steel Pipe Anti-Corrosion Company Limited Haicheng Northern Steel Pipe Co. and Haicheng Beigang Pipe Group
Handan Precise Seamless Steel Pipes Co., Ltd.
Hangzhou Cogeneration Import & Export Company Limited
Hangzhou Zhedong Steel Tube Products Co., Ltd.
Hao Ying Qiqihaer in Northeast Special Steel Co., Ltd.
Hebei ChangFeng Steel Tube Manufacture Group
Hebei Dingsheng Pipe Industry Co., Ltd.
Hebei Hongling Seamless Steel Pipes Manufacturing Co., Ltd
Hebei Huike Steel Pipe Co., Ltd.
Hebei Litonglian Seamless Steel Pipe
Hebei Machinery Import and Export Co., Ltd.
Hebei Puyang Iron and Steel Company Limited
Hebei Tiandixing Pipeline Co., Ltd.
Hebei Xinlian Petroleum Machinery Company Limited
Hebei Xinyuantai Steel Pipe Co., Ltd.
Hebei Yaosheng Petroleum Special Pipe Co., Ltd.
Hebei Yi Xin Petroleum Pipe Company Limited
Hebei Zewo Steel Pipe Manufacturing Co., Ltd.
Hebei Zhong Kuang Steel Pipe Manufacturing Co., Ltd.
Hebei Zhongyuan Steel Pipe Manufacturing Co., Ltd. and Zhongyuan Pipeline Manufacturing Co. Ltd.
Hefei Ziking Steel Pipe Inc.
Heilongjiang Jianlong Iron and Steel Co., Ltd.
Heilongjiang North Shuangjia Drilling Tools Co., Ltd.
Henan Dongfanlong Machine Manufacture Co., Ltd.
Henan Huifeng Pipe Industry Co., Ltd.
Henan Nanyang Oilfield Machinery Manufacturing Company Limited
Henan Province LiDa Petroleum Pipe Drilling Tools Co., Ltd.
Henan Zyzj Petroleum Equipment Co., Ltd.
Hengshui Jinghua Steel Pipe Co., Ltd.
Hengshui Weijia Petroleum Equipment Manufacture Co., Ltd.
Hengyang Hongda Special Steel Tube Co., Ltd.
Hengyang Steel Tube (Group) Co., Ltd.
Hengyang Valin Steel Tube Co. Ltd. and Hengyang Valin MPM Tube Co., Ltd.
HG Tubulars Limited
Highgrade Tubular Manufacturing (Tianjin) Co., Ltd.
HillHead
Hilong Tubular Goods Co., Ltd.
HSC (Chengdu) Seamless Steel Pipe Co., Ltd.
Hsea Steel Trading Co., Ltd.
Huai'an Zhenda Steel Tube Manufacturing Co., Ltd.
Hubei OCTG Machinery Co. (First)
Hubei Xinyegang Co., Ltd.
Hubei Xinyegang Special Tube Co., Ltd.
Hubei Zhongshi Special Steel Tubes Co., Ltd.
Huizhou Dingjia Trade Co., Ltd.
Huludao City Steel Pipe Industrial Co.
Huludao Steel Pipe Industrial Co., Ltd.
Hunting Energy Services (Wuxi) Co., Ltd.
Jiangsu Benqiu Pipe Products Co.
Jiangsu Changbao Steel Tube Co., Ltd. and Jiangsu Changbao Precision Tube Co. Ltd.
Jiangsu Chengde Steel Tube Share Co., Ltd.
Jiangsu Dingxing Petroleum Machinery Co., Ltd.
Jiangsu Fanli Steel Pipe Co.
Jiangsu Huacheng Industry Group Co., Ltd.
Jiangsu Huashun Steel Pipe Co., Ltd.
Jiangsu Kailai Steel Tube Co., Ltd.
Jiangsu Li'Ao Steel Tube Company Limited
Jiangsu Rontech Petroleum Technology Incorporated Company
Jiangsu Shined Petroleum Equipment Manufacturing Company Limited
Jiangsu Shuguang Oil Tools Limited
Jiangsu Sujia Group Co., Ltd.
Jiangsu Tenglong Petrochemical Machinery Co., Ltd.
Jiangsu Tianyuan Steel Tube Co., Ltd.
Jiangsu Valin-Xigang Special Steel Co., Ltd.
Jiangsu Wuxi Steel Group
Jiangsu Yulong Steel Pipe Co., Ltd.
Jiangsu ZhenDa Steel Tube Group Co., Ltd.
Jiangsu Zhongye Energy Equipment Manufacture Co., Ltd.
Jiangyin Changjiang Oil Special Pipe Manufacture Co., Ltd.
Jiangyin Chuangxin Oil Pipe
Jiangyin City Changjiang Steel Pipe Co., Ltd.
Jiangyin City Seamless Steel Tube Factory
Jiangyin Hengyang Petroleum Machinery Company Limited
Jiangyin Jieda Shaped Tube Co., Ltd.
Jiangyin Jieshun Metal Science & Technology Co., Ltd.
Jiangyin Long-Bright Drill Pipe Manufacture Co., Ltd.
Jiangyin Yashen Petroleum Pipe Co., Ltd.
Jiangyin Yueyue Chao Steel Pipe Manufacture Co., Ltd.
Jiangyin Yuhao Petroleum Pipe Co., Ltd.
Jianhu Lichange Valve Co., Ltd.
Jilin Baotong Petroleum Steel Pipe Company Limited
Jilin Qianyuan Steel Pipe Co., Ltd.
Jilin Sky Loong Industry Co., Ltd.
Jinan Iron and Steel Company Jigang Group Co., Ltd.
Jinxi Industry Group Co., Ltd.
Jinxi Steel Pipe Co., Ltd. of Lingyuan Iron and Steel Group
Jinxi Steel Pipe Xinjiang Co., Ltd.
Jiuquan Iron and Steel Group (JISCO)
Julong Steel Pipe Co., Ltd.
Laiwu Iron and Steel Corporation
Langfang OTSMAN Special Petroleum Pipe Manufacture Company Limited
Liangshan Steel Pipe Company Limited
Liaoche Thermal Recovery Machinery Branch of CNPC Bohai Equipment Manufacturing Co., Ltd.
Liaocheng Jialong Tube Manufacture Company Limited
Liaocheng Jingxin Seamless Steel Pipe Manufacturing Co., Ltd.
Liaocheng Xinpengyuan Metal Manufacture Co., Ltd.
Liaoning Dongyu Oil Tubular Goods Company, Ltd.
Liaoning Foo May Oilfield Services Co., Ltd.
Liaoning Large-scale Steel Pipe Co., Ltd.
Liaoning Northern Steel Pipe Co., Ltd.
Liaoning ShenYu Oil Pipe Manufacture Company Limited
Liaoyang Seamless Oil Pipe Co., Ltd.
Linggang Beipiao Steel Pipe Co., Ltd.
Lingyuan Iron & Steel Company Limited
Linyi Jinzhengyang Seamless Steel Pipe Co., Ltd.
Linyi Sanyuan Steel Pipe Industry Company Limited
Linyi Yinlong Steel Tube Co., Ltd.
Linzhou Fengbao Pipe Industry Co., Ltd.
Liuzhou Iron and Steel
M&M Steel Pipe Co., Ltd.
Machinery Factory of Jilin Petroleum Group Co., Ltd.
Machinery Factory of Tuha Petroleum
MCC Liaoning Dragon Pipe Industries Company Limited
Mechanical Factory of CNPC Qinghai Oilfield Company
Meihekou City Hongye Seamless Steel Pipe Co., Ltd.
Mercadex B.V.
MSP/Drilex, Inc.
Nantong Hengte Tube Co., Ltd.
Nantong Petroleum Machine Manufacturing Co., Ltd.
Nantong Yongda Pipe Industry Incorporated Company
Nengyang Hongling Petroleum Pipe Co., Ltd.
NHIC Antonoil Machinery Manufacturing Co., Ltd.
Ning Xia D.M.S. OCTG Company Limited
Ningbo Hengfa Steel Tube Co., Ltd.
Ningxia Daimus Petroleum Steel Pipe Co., Ltd., Tianjin Branch
Norms-ShenZhen HaiYou Mechanical Equipment Company
North China Petroleum Steel Pipe Co., Ltd.
North China Petroleum Steel Pipe Co., Ltd. Yangzhou Subsidiary Company
Oilfield Services & Supplies (Tianjin) Co., Ltd.
Pancheng Yihong Pipe Company Limited
Pangang Group Beihai Steel Pipe Corporation (PGBH)
Pangang Group Chengdu Iron & Steel Co., Ltd.
Pangang Group Chengdu Steel & Vanadium Co., Ltd.
Panjin ChangTai Petroleum Tubular Co., Ltd.
Panjin Liaohe Oilfield Jinhuan Company Corporation Ltd.
Panjin Renhe Pipe Co., Ltd.
Panjin Xinhua Drilling Machinery Manufacture Co., Ltd.
Panshi City Great Wall Mechanical Factory
Panyu Chu Kong Steel Pipe Co., Ltd.
Petroleum Machinery Factory of Bohai Petroleum Manufacturing Co., Ltd.
PetroMaterials (Cangzhou) Co., Ltd.
Pipe and Tooling Center, Sinopec Southwest Company
Pipe & Tools Of No.2 Drilling Technical Company Of Da Qing CN
Precision Pipe Manufacturing Branch of Liaoning Tianyi Industry Company
PuYang BaoLiTong Petroleum Machinery Co., Ltd.
Puyang City Huang Jin-Driliing Parts Processing Co., Ltd.
Puyang City Shuangfa Industry
Puyang Heli Drilling Machinery Processing Co., Ltd.
Puyang Xinyu Petro-chemical Machinery Co., Ltd.
Puyang Zhongshi Group Co., Ltd.
Qingdao Kehua Petroleum Machinery Co., Ltd.
Qiqihaer Haoying Iron & Steel Co of Northeast Special Steel Group
Rizhao Steel Holding Group Co., Ltd.
RiZhao ZhongShun Steel Pipe Manufacture Company Limited
RongSheng Machinery Manufacture Ltd.
Seamless Tube Mill of Baotou Steel Union
Shaanxi Jiabao Petroleum Machine Manufacture Co., Ltd.
Shaanxi Qindong Tubular Goods Manufacturing Co., Ltd.
Shaanxi Yanchang Petroleum Equipment Manufacturing Co., Ltd.
Shaanxi Yangchang Petroleum Material Company
Shandong Continental Petroleum Equipment Co., Ltd.
Shandong Dongbao Steel Pipe Co., Ltd.
Shandong Dongying Liyuan Pipe Industry Group Co., Ltd.
Shandong East China Petroleum Pipes & Drilling Tools Co., Ltd.
Shandong East Oil Petroleum Equipment Co., Ltd.
Shandong Huabao Steel Pipe Co., Ltd.
Shandong Huitong Steel Tube Making Co., Ltd.
Shandong Jialong Petroleum Pipe Manufacture Co., Ltd.
Shandong Liaocheng Baotong Steel Tube Manufacture Co., Ltd.
Shandong Liaocheng Shenhao Metal Product Co., Ltd.
Shandong Liaocheng ZGL Metal Manufacturing Co., Ltd.
Shandong Luhai Petroleum Equipment Co., Ltd.
Shandong Luxing Steel Pipe Co., Ltd.
Shandong Mingzhu Petroleum Equipment Co., Ltd.
Shandong Molong Petroleum Machinery Co., Ltd.
Shandong Nine-Ring Petroleum Machinery Co., Ltd.
Shandong Province Coalfield Geologic Drilling Tools Factory
Shandong Province Jin Shun Steel Product Limited Company
Shandong Runhe Tube Industry Co., Ltd.
Shandong Shengdong Oilfield Machinery Co., Ltd.
Shandong Shengli Tongxing Petroleum Pipe Manufacture Co., Ltd.
Shandong Shengyou Oil Drilling & Production Machinery Limited Company
Shandong Shouguang JuNeng Special Steel Co., Ltd.
Shandong Taifeng Steel Industry Co., Ltd.
Shandong Xinchi Steel Pipe Manufacture Co., Ltd.
Shandong Xinji Yiming Machinery Co., Ltd.
Shandong Zhao Yu Petroleum Pipe Manufacture Co., Ltd.
Shandong Zhongli Steel Pipe Co., Ltd.
Shandong Zhongye Petroleum Machinery Co., Ltd
ShanDong ZhongZheng Steel Pipe Manufacturing Co., Ltd.
Shanghai Baochen Oil Pipeline Materials Company Limited
Shanghai Baodi Petroleum Pipe Development Co., Ltd.
Shanghai Baofu Steel Pipe Co., Ltd.
Shanghai Baoshun Steel Tube Co., Ltd.
Shanghai Baoyan Special Steel Pipe Co., Ltd.
Shanghai Baoyi Industrial Company
Shanghai Fanzhenglong Steel Tube Co., Ltd.
Shanghai Hilong Drill Pipe Co., Ltd.
Shanghai Hongshun Tube Manufacturing Co., Ltd.
Shanghai Kangxin Oil Pipe Manufacturing Co., Ltd.
Shanghai Metals & Minerals Import & Export Corporation
Shanghai Mingsheng Industrial Co., Ltd.
Shanghai STARSE Petroleum Equipment Co., Ltd.
Shanghai Tianhe Oil Engineering Co., Ltd.
Shanghai W.M Threading Co., Ltd.
Shanghai Yuanxin Tube Co., Ltd.
Shanghai Yueyuechao Manufacture Tube Co., Ltd.
Shanghai Yuezhou Steel Co., Ltd.
Shanghai Zhongyou TIPO Steel Pipe Co., Ltd.
Shanxi Dehui Seamless Steel Pipe Co., Ltd.
Shanxi Guolian Pipe Industry Group Co., Ltd.
Shanxi Hongli Steel Tube Share Company Limited
Shanxi Taigang Stainless Steel Tubes & Pipes Co. Ltd.
Shanxi Yida Petroleum Manufacture Co., Ltd.
Shanxi Yuci Guolian Steel Pipe Co., Ltd.
Shelfoil Petroleum Equipment & Services Co., Ltd.
Shengil Fanland Petroleum Equipment Co., Ltd.
Shengil Oil Field Shengli Power Machinery Group Co., Ltd.
Shengil General Engineering (The Thermal Recovery Equipment Manufactory of Shengli General Engineering)
Shengli Oil Field Freet Petroleum Steel Pipe Co., Ltd.
Shengli Oil Field Highland Petroleum Equipment Co., Ltd.
Shengli Oil Field TianFeng Science, Industry & Trade Steel Structure Co., Ltd.
Shengli Oil Field Whuhua Industry Development Co., Ltd.
Shengli Oilfield Shengji Petroleum Equipment Co., Ltd.
Shengli Petroleum Administration General Machinery Plant
Shengli Petroleum Equipment Co., Ltd.
Shenyang Dongming Seamless Steel Tube Co., Ltd.
Shenyang Special Type Seamless Steel Tube Co., Ltd.
Shenzhen Renjunfeng Enterprise Co., Ltd.
Shenzhen Weisheng I.T.S. Petroleum Tubular & Equipment Co., Ltd.
Siano (Beijing) Steel Co., Ltd.
Sichuan ChangCheng Steel Tube Co., Ltd.
Sichuan ChengJiWeiYe Steel Pipe Co., Ltd.
Sichuan Huagong Petroleum Steel Pipe Co., Ltd.
Sichuan Jingshi Engineering Technology Co., Ltd.
Songyuan Daduo Oilfield Accessory Industry Co., Ltd.
Songyuan Seamless Oil Pipe Co., Ltd.
SPAT Steel International (H.K.) Limited
Steel Pipe Plant Of Wisco Wuhan Jiangbei Iron And Steel Co., Ltd.
Steel Pipe Works of North China Petroleum
Steelforce Far East Ltd.
Stiletto (HK) Limited
Suns Steel International (Group) Co., Ltd., Shanghai Suns Steel International Trading Ltd., and Shanghai Suns Steel International Ltd.
Suzhou Baoxin Seamless Steel Tube
Suzhou Friend Tubing and Casing Pipe Co., Ltd.
Suzhou Rainbow Huading Chimney Manufacturing
Suzhou Seamless Steel Tube Works and Suzhou Shuangjin Group Corporation
Suzhou Sino Import and Export Co., Ltd.
Tai'an Jiecheng Equipment Installation Co., Ltd.
Taicang Xinbaoyi Steel Pipe Manufacture Co., Ltd.
Taizhou Chengde Steel Tube Co., Ltd.
Taizhou Elite Drilling Pipe Co., Ltd.
Taizhou Shuangyang Precision Seamless Steel Tube Co., Ltd.
Tangshan Jointer Petroleum Pipe Manufacture Co., Ltd.
Tangshan Sanjin Mingsheng Industry Development Co., Ltd.
Tangshan Wenfeng Qiyuan Pipe Industry Co., Ltd.
The Freet Group
The Machinery Plant, Tuha Oilfield Company
Thermal Recovery Equipment Manufacturer of Shengli Oil Field Freet Petroleum Equipment Co., Ltd.
Tian Jin Costrength Petrol China Machinery Co., Ltd.
Tianhe Oil Group Hifeng Petroleum Equipment Co., Ltd.
Tianjin Amergy (Meineng) Fittings Co., Ltd.
Tianjin Bond Oil Steel Pipe Manufacturing Co., Ltd.
Tianjin Boyu Steel Pipe Co., Ltd.
Tianjin City Gang Xin Seamless Pipe Industry Company
Tianjin City Jinghai County Baolai Industrial and Trade Co.
Tianjin City Juncheng Seamless Tube Company Limited
Tianjin City Mingren Metallic Products Co., Ltd.
Tianjin City Tian Yi Seamless Steel Tube Company Limited
Tianjin Coupling Heat Treatment Company Limited
Tianjin Debang Petroleum Pipe Manufacturing Co., Ltd.
Tianjin DeHua Petroleum Equipment Manufacturing Company Limited
Tianjin Delisi Steel Tube Products Co., Ltd.
Tianjin Denuo Petroleum tube Co., Ltd.
Tianjin Evergrand Oil Pipes Co., Ltd.
Tianjin Feng Yi Da General Machinery Company Limited
Tian-Jin Holly land Pipe Co., Ltd
Tianjin Hong Gang Yuan Oil Equipment Manufacturing Co., Ltd.
Tianjin Hua Xin Premium Connections Pipe Co., Ltd.
Tianjin Huilitong Steel Tube Co., Ltd.
Tianjin Jinggong Petroleum Pipe Fittings Co., Ltd.
Tianjin Jingtong Seamless Steel Pipe Co., Ltd.
Tianjin Jinyingda Plastic Product Co., Ltd.
Tianjin Jinyuan Machinery Manufacture Co., Ltd.
Tianjin Lida Steel Pipe Group Co., Ltd.
Tianjin Lifengyuanda Steel Group Co., Ltd.
Tianjin Liqiang Steel Pipe Co.
Tianjin Master Seamless Steel Pipe Co., Ltd.
Tianjin Minghai Petroleum Tubular Co., Ltd.
Tianjin Opka Oil Pipe Co., Ltd.
Tianjin Pipe Group Corporation
Tianjin Pipe Industry Development Company
Tianjin Pipe International Economic & Trading Corp.
Tianjin Rainbox Steel Pipe Product Corporation
Tianjin Ring-Top Petroleum Manufacture Co., Ltd.
Tianjin Seamless Steel Pipe Plant
Tianjin SERI Machinery Equipment Corporation Limited
Tianjin Shengcaiyuan Steel Trading Co., Ltd.
Tianjin Shenzhoutong Steel Pipe Co. Ltd.
Tianjin Shuangjie Pipe Manufacturing Co., Ltd.
Tianjin Tiangang Special Petroleum Pipe Manufacturer Co., Ltd.
Tianjin Tiansheng Petroleum Pipe Manufacturing Co., Ltd.
Tianjin Tianye Seamless Steel Pipe Plant Ltd.
Tianjin Top Connect Manufacturing Co., Ltd.
Tianjin TPCO & TISCO Welding Pipe Corporation
Tianjin Tubular Goods Machining Co., Ltd.
Tianjin United Steel Pipe Co (UNISTEEL)
Tianjin Walt Pipe Co., Ltd.
Tianjin Xingyuda Steel Pipe Co., Ltd.
Tianjin Zhongshun Industry Trade Co., Ltd.
TianJin ZhongShun Petroleum Steel Pipe Co., Ltd.
Tianjing Boyu Steel Tube Co., Ltd.
Tieling Yida Petroleum Machinery Manufacture Co., Ltd.
TLD International
Tonghua Iron & Steel Group Panshi Seamless Steel Tube Company Limited
TPCO Yuantong Pipe and Tube Corporation Limited
Tuha Petroleum Machinery
UNI Tube Ltd.
United Offshore Construction Co. Ltd. CONHW, Zhanjiang
Uno-steel (Jiangyin) Drilling Products Manufacturing Limited
Weifang East Pipe Industry Technical Co., Ltd.
Weifang Weierds Steel Pipe Co., Ltd.
Westcan Oilfield Supply Ltd.
WSP Holding Limited
Wuhan Seamless Oil Steel Tube Co., Ltd.
Wuhan Wugang Group Hanyang Steel Factory
Wuxi Baoda Petroleum Special Pipe Manufacture Co., Ltd.
Wuxi City DongQun Steel Tube Co.
Wuxi City Jianhong Metal Products Co., Ltd.
Wuxi DeRui Seamless Steel Pipe Co., Ltd.
Wuxi Dexin Steel Pipe Co., Ltd.
Wuxi Dingyuan Precision Cold-Drawn Steel Pipe Co.
Wuxi Eastsun Petroleum Tubular Manufacturing Co., Ltd.
Wuxi Endless Petro Geo-Equipment Co., Ltd.
Wuxi Erquan Special Steel
Wuxi Fanyong Liquid Presses Tube Company Limited
Wuxi Fastube Dingyuan Precision Steel Pipe Co., Ltd.
Wuxi Fastube Industry Co.
Wuxi Free Petroleum Tubulars Manufacture Co., Ltd.
Wuxi Gedemei Oil Machinery Equipment Manufacture Co., Ltd.
Wuxi Horizon Petroleum Special Pipe Manufacture Company Limited
Wuxi Huaxin Petroleum Machine Co., Ltd.
Wuxi Huayou Special Steel Co., Ltd.
Wuxi Huazin Petroleum Machine Company Limited
Wuxi Hui Long Wufeng Steel Tube Limited Company
Wuxi Jiangnan High Precision Pipe Co., Ltd.
Wuxi Jinding Oil Pipe Fittings Co., Ltd.
WuXi OuLong Special Steel Pipe Co., Ltd
Wuxi Precese Special Steel Co., Ltd.
Wuxi Ruiyuan Special Steel Pipe Company Limited
Wuxi Runfeng Special Pipe Co., Ltd.
Wuxi Seamless Oil Pipe Co., Ltd.
Wuxi SP Steel Tube Manufacturing Co. Ltd.
Wuxi Special Steel Material Co., Ltd.
Wuxi Sunshine Textile Science and Technology Co., Ltd.
Wuxi Xijin Petroleum Equipment Fittings Manufacturing Co. Ltd.
Wuxi Xingya Seamless Steel Tube
Wuxi Zhen Dong Steel Pipe Works
Wuxi Zhenda Special Steel Tube Manufacturing Co., Ltd. and Wu Xi Zhen Da Special Steel Tube Manufacturing Co., Ltd.
X'ian Hangwei Petrochemical Equipment Co., Ltd.
Xi'an Changqing Tianhe Petroleum Machinery Co., Ltd.
Xigang Seamless Steel Tube Co., Ltd.
XiNing Special Steel Co., Ltd.
Xinjiang Petro Adminstration Bureau Machinery Manufacture General Company
Xinjiang Ster Petroleum Tubes and Pipes Manufacturing Co., Ltd.
Xinjiang Younaite Petroleum Steel Tube Co., Ltd.
Xinxiang Central Plain Petroleum and Chemical Machine Manufacturing Co., Ltd.
Xinxing Ductile Iron Pipes Co., Ltd.
Xinyuantai Steel Pipe Group Co., Ltd.
Xuzhou E&R Petroleum Equipment Co., Ltd.
Xuzhou Guanghuan Steel Tube (Group) Co., Ltd.
Xuzhou Guanghuan Steel Tube Co., Ltd.
Xuzhou Oilfield Equipment Co., Ltd.
Xuzhou Taifeng Oilwell Products Co., Ltd.
Yan'an JiaSheng Petroleum Machinery Co., Ltd.
Yan'an Shoushan Mechanical and Production Engineering Technology Co., Ltd.
Yancheng Steel Tube Co., Ltd.
Yancheng Teda Special Pipe Co., Ltd.
Yangxin Universal Electromechanical Equipment Co., Ltd.
Yangzhou BaoRuiDe Petroleum Machinery Co., Ltd.
Yangzhou Chengde Steel Tube Co., Ltd..
Yangzhou Chicheng Petroleum Machinery Co., Ltd.
Yangzhou Lontrin Steel Tube Co., Ltd.
Yangzhou Sinopetro Superbskill Machine Co., Ltd.
Yantai KIYOFO Seamless Steel Pipe Company Limited
Yantai Steel Pipe Co., Ltd. of Laiwu Iron & Steel Group
Yantai Yuanhua Steel Tubes Company Limited
Yieh Corporation
YingKou OuYang Metal Manufacturing Co., Ltd.
Zhangjiagang HengFeng Oil Pipe & Part Co., Ltd.
ZhangJiaGang ZhongYuan Pipe-Making Co.
Zhangjiakou Haite Steel Pipe Co., Ltd.
Zhangzhou Stronghold Steel Works Co., Ltd.
Zhejiang Guobang Steel Co., Ltd.
Zhejiang Jianli Co., Ltd.
Zhejiang JiuLi Hi-Tech Metals Co., Ltd.
Zhejiang Kingland Pipe Industry Co., Ltd.
Zhejiang Minghe Steel Pipe Co., Ltd.
Zhejiang Seamless Steel Tube Co., Ltd. and Zhejiang Gross Seamless Steel Tube Co. Ltd.
Zhongshi Special Steel Tubes Co., Ltd.
Zhongyuan Pipeline Manufacturing Co., Ltd.
Zibo Hongyang Petroleum Equipment Co., Ltd.
Zibo Pipe Manufacturing
ZYZJ Petroleum Equipment Co., Ltd.
Citric Acid and Citrate Salt ⁵ A-570-937 | 5/1/12-4/30/13
Laiwu Taihe Biochemistry Co., Ltd.
RZBC Co., Ltd., RZBC Imp. & Exp. Co., Ltd., RZBC (Juxian) Co., Ltd.
Yixing Union Biochemical Co., Ltd.
Pure Magnesium ⁶ A-570-832 | 5/1/12-4/30/13
Tianjin Magnesium International Co., Ltd. (“TMI”)
Tianjin Magnesium Metal Co., Ltd. (“TMM”)
Turkey:
Circular Welded Carbon Steel Pipes and Tubes A-489-501 | 5/1/12-4/30/13
Borusan Group
Borusan Holding A.S.
Borusan Istikbal Ticaret T.A.S.
Borusan Lojistik Dagitim Depolama Tasimacilik ve Tic A.S
Borusan Mannesmann Boru Sanayi ve Ticaret A.S.
Cayirova Boru Sanayi ve Ticaret A.S.
ERBOSAN Erciyas Boru Sanayi ve Ticaret A.S.
Guven Steel Pipe
Guven Celik Boru San. ve Tic. Ltd.
Metaleks Celik Urünleri San. ve Tic. Ltd. Sti.
Metaliks Celik Urunkeri San ve Tic. Ltd.
Toscelik Profil ve Sac Endustisi A.S.
Toscelik Profil ve Sac Endustrisi A.S.
Toscelik Metal Ticaret A.S.
Tosyali Dis Ticaret A.S.
Umran Celik Boru Sanayii A.S.
Umran Steel Pipe Inc.
Yucel Boru ve Profil Endustrisi A.S
Yucelboru Ihracat Ithalat ve Pazarlama A.S.
Yucel Group
Light-Walled Rectangular Pipes and Tubes A-489-815 | 5/1/12-4/30/13
Yucel Boru ve Profil Endustrisi A.S.
Yucelboru Ihracat lthalat ve Pazarlama A.S.
United Arab Emirates:
Certain Steel Nails A-520-804 | 11/3/11-4/30/13
Dubai Wire FZE
Precision Fasteners, L.L.C.
Countervailing Duty Proceedings
The People's Republic of China:
Aluminum Extrusions C-570-968 | 1/1/12-12/31/12
Acro Import and Export Co.
Activa International Inc.
Allied Maker Limited
Alnan Aluminum Co. Ltd.
Bracalente Metal Products (Suzhou) Co. Ltd. (Bracalente or BMP)
Changshu Changshen Aluminum Products Co., Ltd.
Changzhou Changzheng Evaporator Co., Ltd.
Changzhou Tenglong Auto Parts Co., Ltd
China Square Industrial Ltd.
Chiping One Stop Industrial & Trade Co., Ltd. (Chiping)
Cixi Handsome Pool Appliance Co., Ltd.
Classic & Contemporary Inc.
Clear Sky Inc
Cosco (J.M.) Aluminum Co., Ltd
DongChuan Swimming Pool Equipments Co., Ltd.
Dongguan Aoda Aluminum Co. Ltd.
Dongguan Golden Tiger
Dongguan Golden Tiger Hardware Industrial Co., Ltd.
Dragonluxe Limited
Dynabright Int'l Group (HK) Limited
Dynamic Technologies China
Ever Extend Ent. Ltd. (Ever Extend)
First Union Property Limited
Foreign Trade Co. of Suzhou New & Hi-Tech Industrial Development Zone
Foshan City Nanhai Hongjia Aluminum Alloy Co.,
Foshan Guancheng Aluminum Co., Ltd
Foshan Jinlan Aluminum Co. Ltd.
Foshan JMA Aluminum Company Limited
Foshan Nanhai ZhaoYa Decorative Aluminum Ltd.
Foshan Shanshui Fenglu Aluminum Co., Ltd.
Foshan Shunde Aoneng Electrical Appliances Co., Ltd
Foshan Yong Li Jian Alu. Ltd
Fujian Sanchuan Aluminum Co., Ltd
Gangzhou Mingcan Die-Casting Hardware Products, Co. Ltd.
Global PMX Dongguan Co., Ltd.
Golden Dragon Precise Copper Tube Group, Inc.
Gree Electric Appliances
Guang Dong Xin Wei Aluminum Products Co., Ltd
Guang Ya Aluminum Industries Co. Ltd
Guang Zhou Sang Yi Imp. & Exp. Co., Ltd. (Guang Zhou)
Guangdong Hao Mei Aluminum Co., Ltd.
Guangdong Jianmei Aluminum Profile Company Limited
Guangdong Nanhai Foodstuffs Imp. & Exp. Co., Ltd
Guangdong Weiye Aluminum Factory Co., Ltd
Guangdong Whirlpool Electrical Appliances Co., Ltd.
Guangdong Xingfa Aluminum Co., Ltd
Guangdong Zhongya Aluminum Company Ltd.
Guangzhou Jangho Curtain Wall System Engineering Co., Ltd. and Jangho Curtain Wall Hong Kong Ltd. (collectively, Jangho)
Hangzhou Zingyi Metal Products Co., Ltd
Hanwood Enterprises Limited
Hanyung Alcobis Co., Ltd.
Hanyung Metal (Suzhou) Co., Ltd.
Hao Mei Aluminum Co., Ltd
Hao Mei Aluminum International Co., Ltd
Henan New Kelong Electrical Appliances Cp., Ltd
Hoff Associates Mfg Reps Inc. (dba, Global Point Technology, Inc.) and Global Point Technology (Far East) Limited (collectively, Global Point)
Hong Kong Gree Electric Appliances Sales Limited
Honsense Development Company
Hui Mei Gao Aluminum Foshan Co., Ltd.
Idex Dinglee Technology (Tianjin Co., Ltd)
Idex Health
Innovative Aluminum (Hong Kong) Limited
iSource Asia Limited (iSource)
Jiangmen Qunxing Hardware Diecasting Co., Ltd.
Jiangsu Changfa Refrigeration Co., Ltd.
Jiangyin Trust International Inc
Jiangyin Xinhong Doors and Windows Co., Ltd.
Jiaxing Jackson Travel Products Co., Ltd.
Jiaxing Taixin Metal Products Co., Ltd.
Jiuyan Co., Ltd.
JMA (HK) Company Limited
Justhere Co., Ltd.
Kam Kiu Aluminum Products Sdn Bhd
Kanal Precision Aluminum Product Co., Ltd
Karlton Aluminum Company Ltd.
Kong Ah International Company Limited
Kromet International Inc.
Kunshan Giant Light Metal Technology Co., Ltd.
Liaoyang Zhongwang Aluminum Profiled Co. Ltd.
Longkou Donghai Trade Co., Ltd.
Metaltek Group Co., Ltd.
Metaltek Metal Industry Co., Ltd.
Midea Air Conditioning Equipment Co., Ltd.
Midea International Trading Co., Ltd.
Miland Luck Limited
Nanhai Textiles Import & Export Co., Ltd. of Guangdong (Nanhai Textiles)
New Asia Aluminum & Stainless Steel Product Co., Ltd.
Nidec Sankyo Singapore Pte. Ltd.
Nidec Sankyo (Zhejiang) Corporation
Ningbo Coaster International Co., Ltd.
Ningbo Hi Tech Reliable Manufacturing Company
Ningbo Splash Pool Appliance Co., Ltd
Ningbo Yili Import and Export Co., Ltd.
North China Aluminum Co., Ltd.
North Fenghua Aluminum Ltd. (North Fenghua)
Northern States Metals
PanAsia Aluminum (China) Limited
Permasteelisa South China Factory (Permasteelisa China) and Permasteelisa Hong Kong Limited
Pingguo Aluminum Company Limited
Pingguo Asia Aluminum Co., Ltd
Polight Industrial Ltd.
Popular Plastics Company Limited
Press Metal International Ltd
Pushuo Mfg Co., Ltd./dba/Huiren Mfg Co Ltd
Samuel, Son & Co., Ltd.
Sanchuan Aluminum Co., Ltd
Shangdong Huasheng Pesticide Machinery Co.
Shangdong Nanshan Aluminum Co., Ltd
Shanghai Canghai Aluminum Tube Packaging Co., Ltd
Shanghai Dongsheng Metal
Shanghai Hong-hong Lumber Co. (Hong-hong Lumber)
Shanghai Shen Hang Imp & Exp Co., Ltd.
Shanghai Tongtai Precise Aluminum Alloy Manufacturing Co., Ltd. (Tongtai)
Shenyang Yuanda Aluminum Industry Engineering Co., Ltd. (Shenyang Yuanda)
Shenzhen Hudson Technology Development Co., Ltd. (Shenzhen Hudson)
Shenzhen Jiuyuan Co., Ltd
Sihui Shi Guo Yao Aluminum Co., Ltd. (Guo Yao)
Sincere Profit Limited
Skyline Exhibit Systems (Shanghai) Co. Ltd.
Suzhou JRP Import & Export Co., Ltd.
Suzhou New Hongji Precision Part Co
Tai-Ao Aluminum (Taishan) Co. Ltd
Taishan City Kam Kiu Aluminium Extrusion Co. Ltd. (Taishan Kam Kiu)
Taizhou Lifeng Manufacturing Corporation
Taogoasei America Inc
tenKsolar (Shanghai) Co., Ltd. (tenKsolar Shanghai)
Tianjin Ganglv Nonferrous Metal Materials Co., Ltd.
Tianjin Jinmao Import & Export Corp., Ltd.
Tianjin Ruxin Electric Heat Transmission Technology Co., Ltd
Tiazhou Lifeng Manufacturing Corporation
Top-Wok Metal Co., Ltd.
Traffic Brick Network, LLC
T-World Industries Limited
Union Industry (Asia) Co., Ltd.
Uniton Aluminium (HK) Ltd., Uniton Investment Ltd., ZMC Aluminum Factory Limited (collectively, the Uniton companies)
USA Worldwide Door Components (Pinghu) Co., Ltd.
Wenzhou Shengbo Decoration & Hardware
Whirlpool (Guangdong)
Whirlpool Canada L.P.
Whirlpool Microwave Products Development Ltd.
Xin Wei Aluminum Company Limited
Xinya Aluminum & Stainless Steel Product Co., Ltd.
Zhaoqing China Square Industry Limited
Zhaoqing Asia Aluminum Factory Company Ltd
Zhaoqing New Zhongya Aluminum Co., Ltd
Zhejiang Anji Xinxiang Aluminum Co., Ltd.
Zhejiang Dongfeng Refrigeration Components Co., Ltd. (Dongfeng)
Zhejiang Yongkang Listar Aluminum Industry Co., Ltd
Zhejiang Zhengte Group Co., Ltd.
Zhenjiang Xinlong Group Co., Ltd.
Zhongshan Gold Mountain Aluminum Factory Ltd.
Zhongya Shaped Aluminum (HK) Holding Limited
Zhuhai Runxingtai Electrical Equipment Co., Ltd
Citric Acid and Citrate Salt C-570-938 | 1/1/12-12/31/12
Laiwu Taihe Biochemistry Co., Ltd.
RZBC Co., Ltd., RZBC Imp. & Exp. Co., Ltd., RZBC (Juxian) Co., Ltd.

Suspension Agreements

None.

³ If one of the above-named companies does not qualify for a separate rate, all other exporters of Aluminum Extrusions from the PRC who have not qualified for a separate rate are deemed to be covered by this review as part of the single PRC entity of which the named exporters are a part.

⁴ If one of the above-named companies does not qualify for a separate rate, all other exporters of Certain Oil Country Tubular Goods from the PRC who have not qualified for a separate rate are deemed to be covered by this review as part of the single PRC entity of which the named exporters are a part.

⁵ If one of the above-named companies does not qualify for a separate rate, all other exporters of Citric Acid and Citrate Salt from the PRC who have not qualified for a separate rate are deemed to be covered by this review as part of the single PRC entity of which the named exporters are a part.

⁶ If one of the above-named companies does not qualify for a separate rate, all other exporters of Pure Magnesium from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that the meet the requirements of these procedures (e.g., the filing of separate letters of appearance as discussed at 19 CFR 351.103(d)).

Revised Factual Information Requirements

On April 10, 2013, the Department published Definition of Factual Information and Time Limits for Submission of Factual Information: Final Rule, 78 FR 21246 (April 10, 2013), which modified two regulations related to antidumping and countervailing duty proceedings: the definition of factual information (19 CFR 351.102(b)(21)), and the time limits for the submission of factual information (19 CFR 351.301). The final rule identifies five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). The final rule requires any party, when submitting factual information, to specify under which subsection of 19 CFR 351.102(b)(21) the information is being submitted and, if the information is submitted to rebut, clarify, or correct factual information already on the record, to provide an explanation identifying the information already on the record that the factual information seeks to rebut, clarify, or correct. The final rule also modified 19 CFR 351.301 so that, rather than providing general time limits, there are specific time limits based on the type of factual information being submitted. These modifications are effective for all segments initiated on or after May 10, 2013. Please review the final rule, available at http://ia.ita.doc.gov/frn/2013/1304frn/2013-08227.txt, prior to submitting factual information in this segment.

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (“Interim Final Rule”), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)) and 19 CFR 351.221(c)(1)(i).

Dated: June 21, 2013.
Christian Marsh,
Deputy Assistant Secretary for Antidumping and Countervailing Duty Operations.

[FR Doc. 2013-15546 Filed 6-27-13; 8:45 am]

BILLING CODE 3510-DS-P